DEPARTMENT OF ENERGY

Federal Energy Regulatory Commission

Combined Notice of Filings

Take notice that the Commission has received the following Natural Gas Pipeline Rate and Refund Report filings:

Filings Instituting Proceedings

Docket Number: PR18-14-000.

Applicants: Columbia Gas of Ohio, Inc.

Description: Tariff filing per 284.123(b),(e)/: COH SOH effective 11-29-2017.

Filed Date: 12/15/17.

Accession Number: 201712155202.

Comments/Protests Due: 5 p.m. ET 1/5/18.

Docket Numbers: RP18-257-000.

Applicants: El Paso Natural Gas Company, L.L.C.

Description: § 4(d) Rate Filing: Negotiated Rate Agreement Update (Pioneer Jan-Mar 2017) to be effective 1/1/2018.

Filed Date: 12/19/17.

Accession Number: 20171219-5203.

Comments Due: 5 p.m. ET 1/2/18.

Docket Numbers: RP18-258-000.

Applicants: Natural Gas Pipeline Company of America.

Description: § 4(d) Rate Filing: Amendment to NRA Tenaska Marketing Ventures to be effective 12/20/2017.

Filed Date: 12/20/17.

Accession Number: 20171220-5052.

Comments Due: 5 p.m. ET 1/2/18.

Docket Numbers: RP18-259-000.

Applicants: Gulf South Pipeline Company, LP.

Description: § 4(d) Rate Filing: Clean Up Table of Contents for Volume 2 to be effective 1/20/2018.

Filed Date: 12/20/17.

Accession Number: 20171220-5073.

Comments Due: 5 p.m. ET 1/2/18.

Docket Numbers: RP18-260-000.

Applicants: Eastern Shore Natural Gas Company.

Description: Compliance filing Filing to Comply—CP17-28, Negotiated Rate & Non-Conforming Service Agreements to be effective 12/14/2017.

Filed Date: 12/20/17.

Accession Number: 20171220-5076.

Comments Due: 5 p.m. ET 1/2/18.

Docket Numbers: RP18-261-000.

Applicants: Stagecoach Pipeline & Storage Company LL.

Description: § 4(d) Rate Filing: Stagecoach Pipeline & Storage Company LLC—Filing to Add Firm Storage Ratchets to be effective 2/1/2018.

Filed Date: 12/20/17.

Accession Number: 20171220-5106.

Comments Due: 5 p.m. ET 1/2/18.

Docket Numbers: RP18-262-000.

Applicants: Texas Gas Transmission, LLC.

Description: § 4(d) Rate Filing: Conversion of STF to FT Service Filing to be effective 1/22/2018.

Filed Date: 12/20/17.

Accession Number: 20171220-5135.

Comments Due: 5 p.m. ET 1/2/18.

Docket Numbers: RP18-263-000.

Applicants: Enable Gas Transmission, LLC.

Description: § 4(d) Rate Filing: Negotiated Rate Filing—January 2018 Continental 1011192 to be effective 1/1/2018.

Filed Date: 12/20/17.

Accession Number: 20171220-5155.

Comments Due: 5 p.m. ET 1/2/18.

Docket Numbers: RP18-264-000.

Applicants: Destin Pipeline Company, L.L.C.

Description: § 4(d) Rate Filing: Annual Fuel Retention Adjustment to be effective 1/1/2018.

Filed Date: 12/20/17.

Accession Number: 20171220-5158.

Comments Due: 5 p.m. ET 1/2/18.

Docket Numbers: RP18-265-000.

Applicants: Equitrans, L.P.

Description: § 4(d) Rate Filing: Negotiated Rate Service Agreement—EQT Energy Del Point Change 12202017 to be effective 12/20/2017.

Filed Date: 12/20/17.

Accession Number: 20171220-5199.

Comments Due: 5 p.m. ET 1/2/18.

Docket Numbers: RP18-266-000.

Applicants: Equitrans, L.P.

Description: § 4(d) Rate Filing: Terminate Negotiated Rate Service Agreement—BP to be effective 1/1/2018.

Filed Date: 12/20/17.

Accession Number: 20171220-5202.

Comments Due: 5 p.m. ET 1/2/18.

Docket Numbers: RP18-267-000.

Applicants: Northern Border Pipeline Company.

Description: § 4(d) Rate Filing: Sequent and Continental Neg Rate Agmts to be effective 1/1/2018.

Filed Date: 12/21/17.

Accession Number: 20171221-5037.

Comments Due: 5 p.m. ET 1/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2017.
Nathaniel J. Davis, Sr.,
Deputy Secretary.

[FR Doc. 2017-28085 Filed 12-27-17; 8:45 am]

BILLING CODE 6717-01-P